DEPARTMENT OF ENERGY

Federal Energy Regulatory Commission

[Project No. 15038-001]

Let It Go, LLC; Notice Updating Procedural Schedule

Take notice that the schedule for processing the Jefferson Mill Hydroelectric Project No. 15038 exemption application has been updated. Subsequent revisions to the schedule may be made as appropriate.

¹ The Council on Environmental Quality's (CEQ) regulations under 40 CFR 1501.10(b)(1) require that EAs be completed within 1 year of the Federal action agency's decision to prepare an EA. The Commission's October 28, 2022, notice established the Commission's intent to prepare an EA for the Jefferson Mill Project. Therefore, in accordance with CEQ's regulations, the EA must be issued by October 28, 2023.

MILESTONE | Target date
Commission issues EA | July 2023.¹
Commission issues draft Programmatic Agreement (PA) | July 2023.
Comments on EA (due 30 days after EA issuance) | August 2023.
Comments on draft PA (due 30 days after draft PA issuance) | August 2023.

Dated: July 13, 2023.
Debbie-Anne A. Reese,
Deputy Secretary.

[FR Doc. 2023-15315 Filed 7-18-23; 8:45 am]

BILLING CODE 6717-01-P